DEPARTMENT OF COMMERCE

National Oceanic and Atmospheric Administration

50 CFR Part 635

[I.D. 032107B]

Atlantic Highly Migratory Species; Atlantic Bluefin Tuna Fisheries

AGENCY: National Marine Fisheries Service (NMFS), National Oceanic and Atmospheric Administration (NOAA), Commerce.

ACTION: Temporary rule; inseason retention limit adjustment.

SUMMARY: NMFS has determined that the daily Highly Migratory Species (HMS) Angling category retention limits for Atlantic bluefin tuna (BFT) should be adjusted to maximize the usefulness of the information obtained from catches for biological sampling. Vessels permitted in the HMS Angling and HMS Charter/Headboat categories are eligible to land BFT under the HMS Angling category quota. Therefore, NMFS adjusts the daily BFT retention limits for the HMS Angling category quota to allow landing of school BFT in North Carolina during the three-week period from March 24, 2007, through April 15, 2007, as specified in the SUPPLEMENTARY INFORMATION section of this document. This action is intended to provide scientific data that would enhance future recreational fishing opportunities for the HMS Angling and HMS Charter/Headboat categories, while minimizing the risk of an overharvest of the HMS Angling category BFT quota.

DATES: Effective from 12:01 a.m., March 24, 2007, through 11:59 p.m., April 15, 2007.

FOR FURTHER INFORMATION CONTACT: Dianne Stephan, 978-281-9260.

SUPPLEMENTARY INFORMATION: Regulations implemented under the authority of the Atlantic Tunas Convention Act (16 U.S.C. 971 et seq.) and the Magnuson-Stevens Fishery Conservation and Management Act (Magnuson-Stevens Act; 16 U.S.C. 1801 et seq.) governing the harvest of BFT by persons and vessels subject to U.S. jurisdiction are found at 50 CFR part 635.

The 2006 BFT fishing year began on June 1, 2006, and ends May 31, 2007. The final initial 2006 BFT specifications and effort controls were published on May 30, 2006 (71 FR 30619). These final specifications established retention limits for school BFT (measuring 27 inches (69 cm) to less than 47 inches (119 cm)) for the HMS Angling and HMS Charter/Headboat categories in accordance with the following: (1) International Commission for the Conservation of Atlantic Tunas (ICCAT) recommendation limiting the U.S. catch of school BFT to no more than 8 percent of total U.S. domestic landings calculated as a four-year average; (2) the Consolidated HMS Fishery Management Plan (FMP) (October 2, 2006, 71 FR 58058); and (3) the HMS FMP implementing regulations at 50 CFR 635.27.

The 2006 fishing year is the fourth year in the four-year accounting period established by the ICCAT recommendation that limits harvest of U.S. school BFT. The amount of quota available for the fourth year was limited to 49.2 metric tons (mt), and the final initial 2006 BFT specifications established a one school BFT retention limit for the HMS Angling and HMS Charter/Headboat categories from July 1 through July 21, 2006, in the area South of 39° 18′ N, and from August 25 through September 14, 2006, in the area North of 39° 18′ N. (In addition, these permit categories were subject to a retention limit of two BFT per vessel measuring 47 inches (119cm) to less than 73 inches (185 cm) CFL for the entire fishing year.) Preliminary draft estimates show that all the available school quota for 2006 has not been harvested, providing an opportunity for a limited re-opening for research purposes.

At the Spring 2005 and 2006 HMS Advisory Panel (AP) meetings, AP members discussed the BFT length to weight conversion ratios used in the Large Pelagic Survey (LPS) and other NMFS analyses, and expressed concern that the current ratios over-estimate recreational landings. In June 2006, NMFS published “Evaluation of Length-Weight Keys Used to Convert Large Pelagics Survey Bluefin Tuna Landings Numbers to Weights,” which concluded that additional research was necessary to determine the accuracy of the conversion factors in use. During the 2006 fishing year, NMFS expanded the LPS to collect additional data for use in re-analyzing length to weight conversion factors for BFT.

In collaboration with NMFS, the North Carolina Division of Marine Fisheries' (NCDMF) recreational BFT tagging program has been expanded to continue to collect these length and weight data during Spring 2007. Recreationally harvested school BFT landed and tagged at NCDMF weigh stations will be measured and weighed as a part of the NMFS length to weight conversion study. NMFS has recently been notified that school BFT are now available off North Carolina. Thus, NMFS is taking this action to allow retention of school BFT off North Carolina, and landing of school BFT in North Carolina ports to collect data for the NMFS length to weight conversion study.

Under § 635.23(b)(3), NMFS may increase or decrease the HMS Angling category daily retention limit based on the criteria provided in § 635.27 (a)(8). As discussed above, the determination to adjust the retention limit is primarily based on the usefulness of information obtained from catches in the HMS Angling and Charter/Headboat categories for biological sampling and monitoring of the status of the stock (§ 635.27 (a)(8)(i)) and the availability of school BFT on the fishing grounds § 635.27 (a)(8)(ix). In addition, this action would be consistent with the objectives of the consolidated HMS FMP, and the limited three-week duration is anticipated to provide sufficient data for the research program without over-harvesting the school BFT subquota.

Daily Retention Limits

Pursuant to this action and the final initial 2006 BFT specifications, noted above, the daily BFT retention limits for HMS Angling and HMS Charter/Headboat categories are as follows:

Table 1. Effective dates for retention limit adjustments
Permit Category | Effective Dates | Areas | BFT Size Class Limit
HMS Angling and HMS Charter/Headboat (while fishing recreationally) | June 1, 2006, through May 31, 2006, inclusive. | All | Two BFT per vessel per day/trip, measuring 47 inches (119 cm) curved fork length (CFL) to less than 73 inches CFL (185 cm).
| 12:01 a.m., March 24, 2007, through 11:59 p.m., April 15, 2007. | Off North Carolina | One BFT per vessel per day/trip, measuring 27 inches (69 cm) CFL to less than 47 inches (119cm) CFL.

Monitoring and Reporting

NMFS selected the daily retention limits and their duration after examining current and previous fishing year catch and effort rates, taking into consideration public comment on the annual specifications and inseason management measures for the Angling category received during the 2006 BFT quota specifications rulemaking process, and analyzing the available quota for the 2006 fishing year. NMFS will continue to monitor the BFT fishery closely through dealer landing reports, the Automated Landings Reporting System, state harvest tagging programs in North Carolina and Maryland, and the Large Pelagics Survey. All school BFT must be landed in the state of North Carolina and reported and tagged at a state reporting station. Depending on the level of fishing effort, NMFS may determine that additional retention limit adjustments are necessary prior to May 31, 2007.

Closures or subsequent adjustments to the daily retention limits, if any, will be published in the Federal Register. In addition, fishermen may call the Atlantic Tunas Information Line at (888) 872-8862 or (978) 281-9260, or access the internet at www.hmspermits.gov, for updates on quota monitoring and retention limit adjustments.

Classification

The Assistant Administrator for NMFS (AA) finds that it is impracticable and contrary to the public interest to provide prior notice of, and an opportunity for public comment on, this action for the following reasons:

NMFS has recently become aware of increased availability of school BFT in close proximity to the shores of North Carolina, as provided by fishing reports and communication with NCDMF officials and recreational fishermen. This increase in abundance provides the potential to continue the NMFS length to weight conversion study, which is crucial to management of BFT fisheries. In addition to providing for scientific research, increasing the retention limit may also provide small positive social and economic benefits to fishermen and recreational fishing related businesses. The regulations implementing the HMS FMP provide for inseason retention limit adjustments to respond to the unpredictable nature of BFT availability on the fishing grounds, the migratory nature of this species, and the regional variations in the BFT fishery.

Affording prior notice and opportunity for public comment to adjust this retention limit is impracticable as it would preclude NMFS from acting promptly to allow harvest of BFT that are available on the fishing grounds. Analysis of available data shows that this increase to the school BFT retention limit, over a short time span (three weeks) and limited area, has minimal risk of exceeding the ICCAT allocated school BFT limit, as implemented in the 2006 final initial BFT specifications.

Delays in increasing the retention limit would be contrary to the public interest. Limited opportunities are available to sample recreationally harvested BFT for research purposes. Collaboration with the NCDMF recreational BFT tagging program is expected to provide a sufficient sample size upon which to base scientifically valid analyses of length to weight conversion factors. Accurate conversion factors are crucial for the estimation of recreational landings and other stock assessment analyses. Incorrect conversion factors could overestimate harvests, which would negatively impact U.S. fishermen both economically and socially, or underestimate harvests, which could negatively impact bluefin tuna stocks.

Therefore, the AA finds good cause under 5 U.S.C. 553(b)(B) to waive prior notice and the opportunity for public comment. For all of the above reasons, there is good cause under 5 U.S.C. 553(d) to waive the 30-day delay in effectiveness. In addition, this action relieves a restriction (i.e., this action allows retention of more fish).

This action is being taken under 50 CFR 635.23(a)(4) and is exempt from review under Executive Order 12866.

Authority: 16 U.S.C. 971 et seq. and 1801 et seq.

March 22, 2007.
James P. Burgess,
Acting Director, Office of Sustainable Fisheries, National Marine Fisheries Service.

[FR Doc. 07-1485 Filed 3-22-07; 3:23 pm]

BILLING CODE 3510-22-S